DEPARTMENT OF COMMERCE

National Oceanic and Atmospheric Administration

RIN 0648-XA697

Endangered and Threatened Species; Take of Anadromous Fish

AGENCY: National Marine Fisheries Service (NMFS), National Oceanic and Atmospheric Administration (NOAA), Commerce.

ACTION: Notice of issuance of permits.

SUMMARY: NMFS has issued permit 15926 to UC Davis Department of Animal Science Genomic Variation Laboratory [Responsible Party: Dr. Bernie P. May], Department of Animal Science, University of California, Davis, One Shields Avenue Davis, CA 95616; and permit 16083 to Natural Resource Scientists, Incorporated [Responsible Party: Dave A. Vogel], P.O. Box 1210, Red Bluff, CA 96080; for purposes of scientific research.

ADDRESSES: Permits and related documents are available for review upon written request or by appointment in the following office(s): Permits, Conservation and Education Division, Office of Protected Resources, NMFS, 13415 East-West Highway, Room 13705, Silver Spring, MD 20910; phone (301) 713-2289; fax (301) 427-2521; and NMFS, Protected Resources Division, 650 Capitol Mall, Suite 5-100, Sacramento, CA 958914-4706; phone (916) 930-3600; fax (916) 930-3629.

FOR FURTHER INFORMATION CONTACT: Shirley Witalis at phone number (916) 930-3606, or e-mail shirley.witalis@noaa.gov.

SUPPLEMENTARY INFORMATION: This notice is relevant to Federally endangered Sacramento River winter-run Chinook salmon (Oncorhynchus tshawytscha), threatened Central Valley spring-run Chinook salmon (O. tshawytscha), threatened California Central Valley steelhead (O. mykiss), and threatened Southern distinct population segment of North American green sturgeon (Acipenser medirostris). Permits 15926 and 16083 have been issued under the authority of the Endangered Species Act of 1973, as amended (ESA; 16 U.S.C. 1531 et seq.) and the regulations governing the taking, importing, and exporting of endangered and threatened species (50 CFR parts 222-226).

Permits

Permit 15926 was issued to UC Davis Department of Animal Science Genomic Variation Laboratory (UC Davis) on September 7, 2011, authorizing the transfer of ESA-listed tissue specimens from the California Department of Fish and Game Central Valley Salmonid Tissue Archive to UC Davis, for purposes of genetic investigation. The archived collection includes tissue specimens from endangered Sacramento River (SR) winter-run Chinook salmon (Oncorhynchus tshawytscha), threatened Central Valley (CV) spring-run Chinook salmon (O. tshawytscha), and threatened California Central Valley (CCV) steelhead (O. mykiss). UC Davis will genotype the tissues, utilizing microsatellite and single nucleotide polymorphism (SNPs) markers, to study genetic relationships associated with different geographic populations and identify potential salmonid sources for introduction into the San Joaquin River Restoration Program project area, below Friant Dam to the confluence of the Merced River, a tributary to the San Joaquin River, in the Central Valley, California. Permit 15926 will expire on October 31, 2016.

Permit 16083 was issued to Natural Resource Scientists, Incorporated (NRSI) on June 27, 2011, authorizing the take of ESA-listed SR winter-run Chinook salmon), CV spring-run Chinook salmon, CV steelhead and threatened Southern distinct population segment of North American (sDPS) green sturgeon (Acipenser medirostris) for scientific research purposes. NRSI will collect fish entrainment data at five unscreened irrigation water diversions located along the Sacramento River and Delta, in Sutter, Yolo and Sacramento counties, in the Central Valley, California. Juvenile fish will be captured by fyke net, identified to species, enumerated and measured. Dead or moribund fish fish will be returned to the irrigation canals and live fish will be released into the Sacramento River. The objectives of the study are: to determine correlation of fish entrainment with river diversion flows, to quantify benefits to fish populations from screening small-scale agricultural diversions, and to advance the development of criteria for prioritizing fish screening projects on the Sacramento River. Permit 16083 will expire on January 31, 2013.

Dated: September 12, 2011.
Angela Somma,
Chief, Endangered Species Division, Office of Protected Resources, National Marine Fisheries Service.

[FR Doc. 2011-23831 Filed 9-15-11; 8:45 am]

BILLING CODE 3510-22-P